DEPARTMENT OF ENERGY

[Docket No. RP01-228-000]

Northern Border Pipeline Company; Notice of Proposed Changes in FERC Gas Tariff

February 16, 2001.

Take notice that on February 9, 2001, Northern Border Pipeline Company (Northern Border) tendered for filing to become part of its FERC Gas Tariff, First Revised Volume No. 1, the tariff sheets listed on the filing, to become effective March 12, 2001.

Northern Border proposes to make housekeeping changes in its tariff to reflect cross-references to the applicable GISB standards and conform language in a few certain areas of Northern Border's tariff to conform to the GISB standards. The proposed housekeeping tariff changes, when approved will make it easier for the user of Northern Border's tariff to track the GISB standards.

Northern Border copies of this filing have been sent to all of Northern Border's contracted shippers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-4503 Filed 2-22-01; 8:45 am]

BILLING CODE 6717-01-M